NATIONAL AERONAUTICS AND SPACE ADMINISTRATION

[Notice (08-001)]

NASA Advisory Council; Science Committee; Planetary Protection Subcommittee; Meeting

AGENCY: National Aeronautics and Space Administration.

ACTION: Notice of meeting.

SUMMARY: The National Aeronautics and Space Administration (NASA) announces a meeting of the Planetary Protection Subcommittee of the NASA Advisory Council (NAC). This Subcommittee reports to the Science Committee of the NAC. The Meeting will be held for the purpose of soliciting from the scientific community and other persons scientific and technical information relevant to program planning.

DATES: Monday, January 28, 2008, 9 a.m. to 5 p.m. and Tuesday, January 29, 2008, 9 a.m. to 2 p.m. Pacific Standard Time.

ADDRESSES: Jet Propulsion Laboratory, Room 180-703C, 4800 Oak Grove Drive, Pasadena, CA 91109.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The agenda for the meeting includes the following topics:

—Planetary Protection and the Ethics of Planetary Exploration

—Mars Sample Return Mission Plans

—Planetary Protection for Mars Exploration and Lunar Precursors

It is imperative that the meeting be held on these dates to accommodate the scheduling priorities of the key participants. Attendees will be requested to sign a register and to comply with NASA/Jet Propulsion Laboratory security requirements, including the presentation of a valid Government issued picture ID, before receiving an access badge. Foreign nationals attending this meeting will be required to provide the following information no less than 7 working days prior to the meeting: full name; gender; date/place of birth; citizenship; visa/green card information (number, type, expiration date); passport information (number, country, expiration date); employer/affiliation information (name of institution, address, country, telephone); title/position of attendee. Additional information may be requested. A Passport and Visa must be presented at the time of entrance to the Jet Propulsion Laboratory. To expedite admittance, attendees with U.S. citizenship can provide identifying information 5 working days in advance by contacting Marian Norris via e-mail at mnorris@nasa.gov or by telephone at (202) 358-4452.

Dated: December 21, 2007.
P. Diane Rausch,
Advisory Committee Management Officer, National Aeronautics and Space Administration.

[FR Doc. E8-134 Filed 1-8-08; 8:45 am]

BILLING CODE 7510-13-P